DEPARTMENT OF STATE

[Public Notice 4849]

Notice of Finding of No Significant Impact and Summary Environmental Assessment: Express Pipeline in Montana and Wyoming

AGENCY: Department of State, Office of International Energy and Commodities Policy.

ACTION: Notice.

The proposed action is to issue a Presidential Permit to Express Pipeline LLC (“Express”) to authorize it to construct, connect, operate and maintain six new pump stations for an existing 24-inch outer diameter pipeline to convey crude petroleum from Hardisty, Alberta in Canada, to Casper, Wyoming. The Department of State (the “Department”) issued a Presidential Permit on August 30, 1996 to construct, connect, operate, and maintain the 24-inch-diameter buried steel pipeline that is currently capable of transporting 172,000 bpd of petroleum from Hardisty, Alberta, Canada to Casper, Wyoming. On behalf of Express, Westech Environmental Services of Helena, Montana, prepared a draft environmental assessment (“EA”) for the proposed action under the guidance and supervision of the Department. The Department placed a notice in the Federal Register (69 FR 33691 (June 16, 2004)) regarding the availability for inspection of the Express permit application and the draft environmental assessment, and initiating a 30-day public comment period. No public comments were submitted on the draft environmental assessment.

Numerous Federal and State agencies independently reviewed the Express Permit application and the draft environmental assessment. They include: the Environmental Protection Agency, the Department of Transportation, the Department of the Interior, the U.S. Fish and Wildlife Service, the U.S. Department of Homeland Security, the Department of Defense, the Department of Commerce and the Department of Energy.

Comments received from the Federal and State agencies were either responded to directly, or addressed directly by incorporation into the analysis contained in the draft environmental assessment. In addition to inclusion in the analyses of impacts and risks, Federal and State agency comments were used to develop measures to be undertaken by Express to prevent or mitigate potentially adverse environmental impacts, which were included as commitments by Express and its operator Terasen Pipelines, Inc., in the EA and are to be included in the permit to be issued.

The summary environmental assessment, comments submitted by the Federal and State agencies, responses to those comments, and the draft environmental assessment, as amended, together constitute the Final Environmental Assessment of the proposed action.

Introduction

The Express Pipeline is a 24-inch-diameter buried steel pipeline currently capable of transporting approximately 172,000 bpd of petroleum from Hardisty, Alberta, Canada to Casper, Wyoming. The U.S. portion of the Express Pipeline was authorized by a Presidential Permit issued by the Department on August 30, 1996 which permitted the operation of five pump stations, several mainline valves and other pipeline related facilities on the basis of an environmental impact statement that is an annex to this environmental assessment. The Express Pipeline was constructed in the fall and winter of 1996-1997, and became operational in early 1997.

The 1996 Presidential Permit was issued to Express Pipeline partnership, a Delaware partnership. On August 1, 2001, Express Pipeline partnership filed a certificate of conversion to a limited liability company with the Delaware Secretary of State, thereby automatically converting to a domestic limited liability company, Express Pipeline LLC. On January 9, 2003, Encana Corporation of British Columbia sold Express Pipeline LLC to a consortium comprised of Terasen, Inc., of British Columbia, the Ontario Municipal Employees Retirement System and the Ontario Teachers Pension Plan Board, each holding an equal one-third interest. Terasen Pipelines (USA) Inc., (“Terasen”) operates and maintains the existing system on behalf of Express Pipeline LLC.

Express Pipeline LLC (“Express”) owns the portion of the Express Pipeline system from the Canada/U.S. border to Casper, Wyoming. Express is now applying for a Presidential Permit from the U.S. Department of State to construct, operate and maintain six additional pump stations on the Express Pipeline in Montana and Wyoming and to transfer the existing Presidential Permit from Express Pipeline partnership to Express (the “Proposed Action”). This expansion of the capacity of the Express Pipeline in the United States would enable Express to respond to the market demand of Rocky Mountain and Midwest refiners for increased access to a wider diversity and additional supply of Canadian petroleum.

Subsequent engineering and operational analysis demonstrated that, in conjunction with the Proposed Action, two new 150,000 barrel storage tanks would be needed at the existing Casper Station Tank Farm located in Casper, Wyoming to accommodate the additional volumes of petroleum. The Casper Station Tank Farm is owned by Platte Pipe Line Company (“Platte”), an affiliate of Express. Because, according to Express, these storage tanks would be located beyond the terminus of the Express Pipeline system (i.e., they would be part of the Platte Pipeline system), they were not included within the scope of Express' proposal for which it seeks a Presidential Permit from the Department. After thoroughly considering all factors, the Department has concluded that the two additional storage tanks at the Casper Station Tank Farm are not within the scope of the Proposed Action and therefore will not be subject to the Presidential Permit, once issued. The environmental consequences of construction, operation and maintenance of the two storage tanks are evaluated in conjunction with the Proposed Action, however.

Purpose and Need

The Express Pipeline was constructed to meet the requirements of refiners in the U.S., particularly in the Rocky Mountain and Midwest regions, by providing new sources of Canadian petroleum to numerous markets including Montana, Wyoming, Utah, Colorado, Kansas and Illinois. The Express Pipeline system is consistently operating at or near its maximum capacity in its current configuration. Market demand for additional Canadian petroleum supplies continues to grow. The Express Pipeline cannot meet the increased demand in its current configuration. The construction of additional pump stations along the existing, permitted Express Pipeline right-of-way (“ROW”), along with construction of two new storage tanks at the Casper Station Tank Farm, would result in the expansion of capacity necessary to enable Express Pipeline to transport additional petroleum to these markets. Without greater supply diversity and reliability of access to additional supply, the potential that the consumer will enjoy the availability of more competitively priced refined products could be substantially reduced and the refiners' ability to comply with more rigorous refined product specifications could be hindered.

Project Background

The increased demand for Canadian petroleum was anticipated at the time the Express Pipeline was originally proposed in 1993. The entire Express Pipeline system from Hardisty, Alberta to Casper, Wyoming was originally designed for an ultimate capacity of approximately 280,000 barrels per day (“bpd”), depending on the characteristics of the petroleum being transported. Accordingly, the original design of the Express Pipeline system called for 11 pump stations to be located in the United States.

Although the Express Pipeline system was designed for an ultimate capacity of approximately 280,000 bpd, it was originally constructed to transport approximately 172,000 bpd, in response to the anticipated market demand in 1996. Consequently, only five of the 11 pump stations planned for location in the U.S. were needed when the pipeline was constructed.

Mainline valves were installed at the locations of the six remaining pump stations in order to allow the future addition of the remaining pump stations without requiring substantial alteration or reconstruction of the pipeline itself.

To maintain the hydraulic efficiency of the pipeline system as currently designed, the remaining six pump stations in the U.S. would need to be placed at the locations originally planned. Three of the six new pump stations will be located on public land administered by the U.S. Department of the Interior, Bureau of Land Management (“BLM”). The BLM evaluated the environmental consequences of constructing and operating pipeline facilities in the Express Crude Oil Draft Environmental Impact Statement. Since environmental conditions at the three BLM-administered sites have not materially changed from those reflected in the DEIS, BLM issued a “Notice to Proceed” with construction of these pump stations on October 14, 2003.

The three pump stations on non-federal land would all be constructed within the certified 500-foot-wide Express Pipeline corridor. Express owns or has obtained easements on the land at these three proposed pump stations. The general discussion of impacts and mitigation measures for the pump stations on non-federal land set forth below would also be relevant to the pump stations on Federal land.

Description of Alternatives

Alternatives Considered but Eliminated From Further Analysis

Three action alternatives were considered but eliminated from further analysis for the reasons discussed below.

(1) Looping the Express Pipeline

“Looping” allows an existing pipeline system to expand its capacity by constructing a second, generally parallel pipeline alongside the existing pipeline. Looping is utilized when the existing pipeline does not have the potential capacity to transport additional petroleum. The two pipelines could be located in the same ROW, although they would be offset far enough so that construction activities on the second pipeline would not disturb the existing pipeline. The two pipelines may share certain facilities, such as an operations center.

Looping is a major construction activity that has the potential for environmental impacts equal to those encountered during construction of the original pipeline. For example, if the Express Pipeline was looped only along the U.S. portion of the pipeline, approximately 515 miles of new pipeline along with pump stations, mainline valves and other facilities would have to be constructed. The pipeline would have to cross 137 named perennial, intermittent or ephemeral rivers and streams, as well as 354 named or unnamed drainages, irrigations canals or ditches. There could be potential impacts to land use activities along the pipeline, to wildlife and fisheries habitat (including endangered or threatened species), to soils and cultural resources, as well as socioeconomic burdens on the existing infrastructure, such as temporary housing and road systems. Looping would require a minimum of two years to design the new pipeline and facilities, conduct a thorough environmental impact analysis, obtain construction easements and other permits, acquire the pipe and other materials, hire pipeline contractors, construct the pipeline and rehabilitate disturbed areas after construction.

In the case of the Express Pipeline, looping would not be necessary because the Express Pipeline system was conceived and designed for an ultimate capacity of approximately 280,000 bpd, assuming 18 pump stations in Canada and the U.S. In other words, the Express Pipeline system could be expanded simply by adding nine pump stations (three in Canada and six in the U.S.) at sites where mainline valves were placed during construction of the original pipeline. The potential environmental impacts associated with constructing an entire pipeline would be avoided, and additional petroleum supplies could reach U.S. refiners within a few months, rather than a minimum of two years. Consequently, looping was eliminated as a possible alternative from further analysis.

(2) A New Pipeline on an Alternative Route

The Express Pipeline system transports petroleum from Hardisty, Alberta, Canada to Casper, Wyoming, crossing the Canada/U.S. border near the Port of Wild Horse. As part of the pre-construction environmental impact analysis for the Express Pipeline, the Express Crude Oil Draft Environmental Impact Statement evaluated three alternative points of entry into the U.S.: one located approximately 120 miles west of Wild Horse, and the other two located approximately 65 and 120 miles east of Wild Horse respectively. The Express Crude Oil Draft Environmental Impact Statement concluded that these alternative routes would add additional length and cost to the Express Pipeline system without providing any environmental or engineering benefits.

These same three entry points are still potentially available for an alternative pipeline route. However, use of any of these entry points would require construction of a new pipeline on the Canada portion of the Express Pipeline system as well as a new pipeline on the U.S. portion (in effect, construction of an entirely new Express Pipeline system). Any such pipeline system would be longer than the existing pipeline, would require substantial engineering and environmental study and design in both Canada and the U.S. that would delay construction of the project for several years, and (as stated in the Express Crude Oil Draft Environmental Impact Statement) would not provide any environmental or engineering benefits on the U.S. portion of the project. In addition, as discussed previously, a new pipeline would not be necessary to obtain the additional petroleum supplies for U.S. refiners, since the existing Express Pipeline system could provide those supplies by the simple addition of nine pump stations (three in Canada and six in the U.S.). Therefore, a new pipeline on an alternative route was also eliminated as an alternative from further analysis.

(3) Alternative Pump Station Locations

The original Express Pipeline was designed for an ultimate capacity of approximately 280,000 bpd, which would require a total of 18 pump stations in Canada and the U.S. The location of each of the 18 pump stations was selected when the Express Pipeline was originally designed to minimize environmental impact and maximize both the capacity and efficiency of the system. To achieve the initial capacity of approximately 172,000 bpd, nine of the 18 pump stations were constructed in 1996, four pump stations in Canada and five pump stations in the United States. To maintain the hydraulic efficiency of the pipeline system as it was originally designed, the remaining nine pump stations (three in Canada, six in the U.S.) must be placed at the intervals as originally planned.

The proposed pump station sites addressed in the Proposed Action were selected not only for their hydraulic efficiency but to minimize environmental impacts. The pump stations locations were deliberately selected to avoid impacts to the following land uses:

• National Wilderness Area

• National Primitive Area

• Designated or Undesignated Roadless Areas Greater Than 5,000 Acres

• National Wild and Scenic Rivers (“WSR”)

• Rivers Under Study for the WSR System

• National Wildlife Refuges or Ranges

• National or State Recreation Areas

• National Trails

• National Historic Landmarks/National Register Historic Districts or Sites

• State Historic Preservation Office (“SHPO”) Historic Districts or Sites

• Designated Habitat for Federally Listed, Proposed or Candidate Endangered or Threatened Species

• Habitats Occupied Seasonally by Federally Listed, Proposed or Candidate Endangered or Threatened Species

• Habitats Critical to Species of Special Interest or Concern

• Unique Habitats or Natural Areas

• Wetlands

• Federal or State Waterfowl Production Areas

• Areas With High Waterfowl Density

• State Game Ranges and Game Management Areas

• Big Game Winter Ranges

• Big Game Summer Security Areas

• Grouse Leks or Severe Winter Concentration Areas

• Bird Nesting Colonies

• Riparian Forests

• Conservation Easements

• Sites Funded by the Land and Water Conservation Fund or Urban Park and Recreation Recovery Programs

• Water Bodies Larger Than 20 Acres

• Municipal Watersheds

• Surface Supplies of Potable Waters

• Active Faults Showing Evidence of Post-Micoene Movement

• Rugged Topography With Slopes Greater Than 15%

• Erodible Soils, Areas with Severe Reclamation Constraints

• Undeveloped Natural Features

• Avalanche Chutes

• Permitted Surface Mining Areas

• Geological Formations with High Probability of Paleontological Resources

• Sites of Religious or Heritage Significance to Native Americans

• Schools or Future School Sites

• Agricultural Experiment Stations

• Prime or Unique Farmland and Orchards

• Scenic Overlooks and Scenic Highways

• Areas of Conflict with Published Visual Management Plans

• Limited Access Areas

Because of the placement of the existing pump stations, any change in the locations of the proposed pump stations would interfere with the hydraulics and performance of the entire pipeline system. Changing the locations of the proposed pump stations would not provide any engineering or environmental benefits. Consequently, use of alternative pump station locations were eliminated as an alternative from further analysis.

In sum, there do not appear to be any alternatives other than the Proposed Action and a No Action alternative. The design of the pump stations as described in the Proposed Action represents the most efficient use of the available site lands and minimizes environmental impacts associated with construction, operation and maintenance of the pump stations. Other alternatives that would increase pipeline capacity are less desirable from an environmental standpoint. Putting the six pump stations at new locations would entail much more invasive construction than that required at the locations already identified and moving the pipeline would be even more environmentally disruptive. Accordingly, there are no other alternatives that would meet the requirements of the Proposed Action and therefore this EA considers only the Proposed Action and a No Action alternative.

Proposed Action

The physical design of the pump station facilities would be similar to the originally constructed stations, although the footprint of the new pump stations would be smaller than that of the existing pump stations. Each proposed pump station would require about 5.74 acres of land during construction, while the post-construction area of each pump station would be about 1.24 acres. Each site has previously been entirely or partially disturbed by agricultural activities and the construction of the Express Pipeline.

The stations would be constructed adjacent to existing mainline valves, in fenced and graveled station yards. Electrical supply lines and substations would provide the power required for the pump stations and would be permitted, constructed and maintained by local electrical utility companies.

Each pump station would have two 5,000 horsepower electric motor-driven pumps located above ground on concrete pads, and coated at the factory with protective paint to prevent corrosion. Each pump would have a pump seal. Additional equipment at each station would include piping, a double-walled sump tank, electrical controls, process instrumentation, data collection and communication equipment. An electrical building would be constructed at each pump station to house electrical equipment including switchgear, motor controls and Supervisory Control and Data Acquisition (“SCADA”) equipment. Each of the proposed pump stations would be equipped with a SCADA system to control and monitor the station. A satellite dish would be installed to maintain the communication link with the Edmonton Control Center. Collected data would be relayed to the Control Center in Edmonton, Alberta where Control Center Operators monitor the status of the stations and pipeline. The Edmonton Control Center is a 24-hour staffed facility, and has full control of all the station equipment including the capability to start and stop station pumps, and close and open station valves.

Express and Terasen have agreed to test each pump station hydrostatically to ensure system integrity prior to operation. The pump stations would be maintained and operated in accordance with the standards set forth in the General Operations Management Plan that are applicable to the existing stations. All manuals, including the Express/Platte Emergency Response Plan (“ERP”) required by the U.S. Department of Transportation (“U.S. DOT”), would be updated to reflect the addition of these proposed stations.

In addition, the storage tanks would be constructed at the Casper Station Tank Farm. Other possible locations outside the Casper Tank Farm boundary would reduce the efficiency of the transfer of petroleum from the Express Pipeline system to the Platte Pipeline system because it would lengthen the distance to the refineries as well as increase costs and opportunities for system failure. In addition, locating the storage tanks within the Casper Tank Farm, which has been disturbed by past and on-going activities with the existing tanks, would minimize potential environmental impacts from construction and operation of the tanks while allowing quick response from Terasen personnel and equipment in the event of an emergency.

The project facilities would consist of two 150,000-barrel storage tanks, leak detection system, spill-containment dikes, impervious liners, piping, control valves, manifold piping and site lighting. Electrical service would be provided by an extension from the distribution center in Platte's station yard, or from an adjacent transmission line. Other facilities such as an access road, control and quality assurance buildings and satellite dish are already in place in the Casper Station Tank Farm. A secure 6-foot chain link fence surrounds the entire complex.

Like the pump stations, Express and Terasen have agreed to hydrostatically test the storage tank facilities prior to operation to ensure system integrity. According to Express and Terasen, the new storage tanks would be operated in accordance with appropriate manuals and procedures for the Casper Station Tank Farm. Further they state that all manuals, including the Express/Platte ERP required by the U.S. DOT, would be updated to reflect the addition of these additional storage tanks.

No Action Alternative

The No Action Alternative would mean that the additional pump stations and storage tanks would not be constructed. There would be no additional environmental impacts under the No Action alternative. However, there would be no beneficial economic effects because the pipeline capacity would remain unchanged.

Environmental Impacts and Mitigation Measures

Proposed Action

Construction and normal operation of the Proposed Action would have beneficial economic impacts. Temporary socioeconomic benefits would flow to the local economy during the construction period and would result in a temporary increase in local personal income. Local motels, restaurants, retail outlets and recreation providers would be the primary recipients of these benefits.

Over the long-term, the state of Montana and respective counties would receive additional tax benefits as a result of the ad valorem tax that would be assessed on the three proposed stations on private land. It is estimated that the ad valorem tax would be approximately $225,000 per station per year.

The construction of the proposed pump stations would increase the throughput capacity of the Express Pipeline, increasing the pipeline's ability to deliver high quality Canadian petroleum to refiners in PADD II and PADD IV including Montana, Wyoming, Utah, Colorado, Kansas and Illinois. This would enable these refiners to access additional quantities of specialized petroleum, enhancing their ability to meet increasingly stringent refined product quality requirements. The Proposed Action would also provide the refiners access to an increased number of potential suppliers, and potentially longer-term supply sources at tolls that would be competitive with alternative routes.

Based on the draft environmental assessment prepared by Westech Environmental Services on behalf of Express, normal operation of the Proposed Action would have no significant adverse impacts on climate, air quality noise, geology, wetlands and riparian areas, navigable waters, floodplains, plant species of special concern/sensitive communities, noxious weeds, threatened or endangered species, land use, transportation, socioeconomics, population and housing, recreation, and cultural and paleontological resources. This document lays out the minimal impacts that have been identified in the environmental assessment.

Water Resources: There may be short-term impacts from construction of the Proposed Action to water resources as a result of runoff and sedimentation during construction or hydrostatic testing. Express and Terasen have agreed to undertake the following measures to mitigate impacts to surface water for the proposed pump stations:

• During construction, drainage control structures (ditches, ponds, sediment fence) would be designed, built and maintained to transport surface runoff from the affected area but prevent discharge to drainages or areas outside the 5.74-acre site.

• A detailed hydrostatic test plan would be prepared before mechanical construction of the pump stations would begin.

• Any necessary permits or approvals would be obtained prior to hydrostatic testing.

Soil: There could be impacts to soil resources during the construction phase as a result of salvage and storage, clearing and grading, compaction, and wind or water erosion. Express and Terasen have agreed to undertake the following measures to mitigate impacts to upland soil resources for pump stations:

• During construction, drainage control structures (ditches, ponds, sediment fence) would be designed, built and maintained to transport surface runoff off the affected area but to prevent discharge to drainages or areas outside the 5.74-acre site.

• With the potential exception of the proposed Faulkners Coulee pump station, salvaged topsoil would be spread to blend with the landforms on undisturbed portions of the site.

• At the proposed Faulkners Coulee pump station, it may be necessary to retain a small topsoil stockpile for the life of the project, due to the active cultivation of portions of the site that would make it difficult to maintain (and eventually salvage) a uniform soil depth. Unless otherwise requested by the landowner, the topsoil would be seeded in the first appropriate season with “Sodar” streambank wheatgrass.

Vegetation: Because soils would be disturbed, there could be impacts to upland vegetation as a result of construction of the Proposed Action. Express and Terasen have agreed to undertake the following measures to mitigate any impacts to vegetation resources for the Proposed Action:

• After construction is completed, temporary workspace and other portions of the affected area where long-term disturbance is not required would be rehabilitated using the topsoil spreading and revegetation mixtures recommended in the applicable discussion for each pump station in the EA.

• Ultimate reclamation of the three pump stations would be addressed in the abandonment plan.

• Noxious weeds at each station would be monitored and controlled.

Wildlife and Fisheries: Similarly, there could be impacts to wildlife and fisheries from surface runoff, as a result of surface disturbance during construction, and from normal operation of the Proposed Action. Express and Terasen have agreed to undertake the following measures to mitigate impacts to wildlife and fisheries from the Proposed Action:

• Implement the surface runoff control mitigation measures recommended above to reduce the potential for surface runoff and sedimentation to reach drainages.

• Any transmission line poles erected on the site would provide raptor protection in accordance with Suggested Practices for Raptor Protection on Power Lines: the State of the Art in 1996 (APLIC 1996).

Visual Resources: The Proposed Action could impair or detract from the scenery surrounding the pipeline as a result of vegetation removal, grading and site development, the presence of construction workers and equipment, and the long-term presence of small buildings, the pumps and other facilities. Express and Terasen have agreed to undertake the following measures to mitigate impacts to visual resources from the Proposed Action:

• Facilities would be painted similar to the paint scheme used at the existing pump stations.

• As soon as practicable after construction, temporary workspace that is not needed for the life of the project would be revegetated.

Environmental Justice: Executive Order 12898, Federal Actions to Address Environmental Justice in Minority Populations and Low-Income Populations, provides that each Federal agency must identify and address, as appropriate, effects of its activities on minority populations and low-income populations. The Proposed Action would be located in rural areas of comparatively low population density. No residences are located less than 0.25 mile from any proposed pump station. There are no population centers at or proximal to the Proposed Action, and none are proposed for development. Consequently, it is not anticipated that the Proposed Action would have any significant adverse human health or environmental effects on any minority or low-income populations.

Historical and Cultural Resources: Pre-construction field surveys for cultural and paleontological resources along the 500-foot-wide permitted Express Pipeline route discovered no such resources at any of the Proposed Action locations. No historic, archaeological, architectural and/or traditional cultural properties on or eligible for inclusion on the National Register of Historic Places were found. No paleontological resources were documented. The proposed pump station sites are comprised of land that is or has been cultivated, and no undisturbed surface cultural or paleontological resources would be expected at any of the sites. In addition, all proposed pump station sites were previously affected by construction of the Express Pipeline. Because no cultural or paleontological resources are known to be present at any of the proposed pump stations, there would be no known significant impacts from construction and operation of the proposed pump stations on these resources. Any cultural or paleontological resources found during the construction of the proposed pump stations would be addressed in accordance with protocols established for the existing Express Pipeline.

Pipeline Safety and Reliability: The potential for an operational petroleum release from the Express Pipeline throughout its life would be very low. Because the pipeline and its facilities were designed for the ultimate capacity of approximately 280,000 bpd, it was constructed to accommodate the change in pressure profile that would be needed to transport that capacity, which is the Proposed Action. The SCADA system and its accompanying leak detection system were also designed for the ultimate capacity of about 280,000 bpd. Consequently, the addition of the six pump stations covered by this Proposed Action would not require any material changes in the overall design, engineering, or operational procedures currently employed by the Express Pipeline. None of the proposed additional pump stations is located in a “High Consequence Area” as defined by 49 CFR 195.450. Therefore the addition of the Proposed Action to the Express Pipeline system would not result in an increase in the pipeline integrity-related potential for an accidental petroleum release, compared to the existing conditions.

The potential for a petroleum release during normal operations would be driven by the age of the pipeline rather than its operating capacity. The Express Crude Oil Draft Environmental Impact Statement presented a risk analysis for petroleum release in or near riverbeds, based on pipeline industry statistics. That analysis concluded that, over a potential 25-year life of the project, two releases of 50 barrels or less and one release of over 50 barrels could statistically occur. If the life of the project were extended an additional 25 years (i.e., a total of 50 years), there would be a statistical potential for nine more releases of less than 50 barrels and two releases of over 50 barrels. Since the Express Pipeline was placed in service in 1997, there has been only one release that occurred in 2003 when a backhoe excavating at a block valve hit a valve fitting. The entire release (approximately 70 barrels) was contained on site.

The statistical potential for a major release (i.e., greater than 500 barrels) during the first 25 years of the Express Pipeline was calculated to be 0.31, and 0.62 during the second 25 years. This release potential would not be expected to change regardless of the operating capacity of the pipeline, because the maximum release in the event of a major rupture is comprised of the volume lost before the leak is recognized and the valves are closed, plus the volume that drains down due to topography. The volume lost prior to shut down is related to the amount of flow (i.e., 280,000 bpd vs. 172,000 bpd), but this is small in relation to the amount of peak drain down, which is generally not affected by throughput (i.e., amount of flow).

For example, a 15-minute recognition and shut down time of a major rupture of the Express Pipeline at 280,000 bpd (release volumes were calculated in accordance with 49 CFR 194.105(b)(1)), would result in a volume release of 2,917 barrels, which could be up to 1,125 barrels greater than would be expected under the current capacity.

In comparison, drain down volumes following shut down would vary as a function of topography, rather than throughput, and so would not be significantly increased by the Proposed Action (as compared to current capacity). Peak drain down volumes for the Express Pipeline would be in the order of 30,000 to 50,000 barrels, far greater than the volume lost as a result of the increased flow in the pipeline system.

Terasen has an Integrity Management Program, developed as a result of the requirements of 49 CFR 195.452. When constructed, the Express Pipeline employed “state-of-the-art” technology, including the most recent SCADA and leak detection systems.

The sensitivity of leak detection is a function of the uncertainty in the flow rate of fluid entering and delivered from the pipeline system, and the uncertainty in the line pack within the pipeline. These uncertainties are dependent on a number of parameters including instrumentation accuracy and repeatability, fluid properties and SCADA system characteristics. The proposed Action would not fundamentally change the type or level of instrumentation, the fluids being transported or the SCADA system. Therefore the leak detection system would continue to operate at the same sensitivity, as a percentage of flow rate, at the ultimate capacity of approximately 280,000 bpd as it does at the current rate of 172,000 bpd.

Upon regulatory approval of the Proposed Action, as required by the U.S. DOT, Terasen would update the Express/Platte ERP to consider the worst-case scenario based on the throughput under the Proposed Action. Although the worst-case scenario would not likely represent a “real world” occurrence, Terasen's response planning is based on this scenario. For example, additional manpower and spill response equipment might be needed as a result of these calculations; if so, Terasen would obtain these resources through local contractors and the Montana-Wyoming Spill Cooperative.

As discussed in the Express Crude Oil Draft Environmental Impact Statement, in the event of a release anywhere on the Express Pipeline, the magnitude and duration of environmental damage would be influenced by a number of factors. The kind, magnitude and duration of these effects would not be expected to materially change under the Proposed Action, although the released volume could be greater in some locations and smaller in others.

The U.S. Department of Transportation (“DOT”) regulates all aspects of pipeline design, construction, operations, maintenance and emergency and spill response. Pipeline safety regulations are designed to protect the public, environmentally sensitive areas, cultural resources and economic resources. Emergency and spill response planning regulations require the identification of environmentally important areas, and require that operators have response capabilities in place to minimize a pipeline release and the impact of such a release on the environment, the public and other resources.

In the event of a release, the Federal regulatory programs define the notification requirements and required response actions. These programs include: The National Oil and Hazardous Substances Pollution Contingency Plan (NCP: 40 CFR part 300); the Clean Water Act; the Oil Pollution Act; and the Superfund Amendment and Reauthorization Act. U.S. DOT NEPA regulations allow for coordinated implementation of these federal requirements. The U.S. DOT requires Terasen to develop, maintain and update an approved ERP. The ERP defines notification and initiation of response actions in a timeframe and on a scale appropriate to the extent of the release. The ERP establishes a required endpoint for response actions, that being the mitigation of any unacceptable threat to human health or the environment. The ERP includes a mechanism for providing compensation for short- or long-term damages to any natural resources and for restoration costs. The cumulative result of these regulatory constraints is that the adverse impacts of a release will be temporary and that baseline conditions will be restored.

In summary, although the throughput of the Express Pipeline system would be greater under the Proposed Action than under the currently certificated capacity, the kind, magnitude, duration and result of environmental impacts are not expected to be significant under the Proposed Action because:

(1) The range of these impacts was identified and discussed in the Express Crude Oil Draft Environmental Impact Statement and would not be expected to change as a result of the Proposed Action;

(2) The Express Pipeline was designed and constructed to operate at the volumes contemplated by the Proposed Action, and can safely accommodate these volumes;

(3) The petroleum release detection system currently in place on the Express Pipeline would continue to work at the same efficiency as at the current certificated volume, and continues to be “state-of-the-art” technology; and

(4) Procedures for design, construction, operation and maintenance of the Express and Platte Pipeline systems are covered by a variety of Federal regulations under the oversight of the U.S.DOT. The ERP required by the U.S. DOT mandates the mechanisms of Terasen's response to a petroleum release and would be updated to reflect the pipeline capacities under the Proposed Action.

Accidental release of petroleum at any of the proposed pump stations would not affect most environmental disciplines. The disciplines most likely to be affected would be surface water, groundwater, wildlife and fish. The following measures are proposed to minimize the potential impacts as a result of a petroleum spill:

• Sump tanks will be constructed to incorporate a double wall with integrity monitoring instrumentation, to enable Terasen to know of any leak in either sump tank wall.

• In accordance with U.S. DOT requirements, Terasen has developed an ERP that is updated as necessary. In accordance with the ERP, sufficient petroleum spill response equipment and other resources, such as contractors and equipment, are provided to respond to any emergency along the Express pipeline within a specified timeframe. Therefore response times in the event of major petroleum spill at any of the action alternative sites would be approximately two hours.

• In the event of a petroleum release, Terasen is committed to remediating impacted areas so that vegetation can be reestablished. Implementing the ERP and reestablishing vegetation will remediate impacts to surface water, groundwater, fish and wildlife.

As noted above, implementation of the Proposed Action would require the construction and normal operation of the two storage tanks at the Casper Station Tank Farm. Construction and operation of the storage tanks would contribute to the local and State (Wyoming) economic benefits described above.

Based on the draft environmental assessment prepared by Westech Environmental Services on behalf of Express, construction and normal operation of the storage tanks would have no significant adverse environmental impacts on climate, air quality noise, geology, wetlands and riparian areas, navigable waters, floodplains, plant species of special concern/sensitive communities, noxious weeds, threatened or endangered species, land use, transportation, socioeconomics, population and housing, recreation, and cultural and paleontological resources, given that they are additions to an existing tank farm.

Construction and operation of the storage tanks could affect surface water as a result of runoff and sedimentation during construction or hydrostatic testing. Express and Terasen have agreed to undertake the following measures to mitigate impacts to surface water from the two storage tanks:

• During construction, drainage control structures (ditches, ponds, sediment fence) would be designed, built and maintained to transport surface runoff from the affected area but prevent discharge to drainages or areas outside the Casper Station Tank Farm.

• Terasen would prepare a detailed hydrostatic test plan before mechanical construction of the storage tanks and piping would begin.

• Terasen would obtain any necessary permits or approvals prior to hydrostatic testing.

Groundwater at the Casper Station Tank Farm consists of shallow, fractured aquifers that could be affected by construction of the proposed storage tanks. Express and Terasen have agreed to undertake the following measures to mitigate impacts to groundwater at the storage tank site:

• An impervious liner would be installed beneath the storage tanks and berm.

• A leak detection system would be installed below the tanks.

There could be impacts to soil resources at the Casper Station Tank Farm as a result of salvage and storage, clearing and grading, compaction, and wind or water erosion. Express and Terasen have agreed to undertake the following measures to mitigate any such impacts to upland soil resources:

• During construction, drainage control structures (ditches, ponds, sediment fence) would be designed, built and maintained to transport surface runoff off the affected area but to prevent discharge outside the Casper Station Tank Farm.

• After construction, any remaining subsoil would be spread onto the 2-4 acres used for temporary workspace, and the salvaged topsoil would be placed over the subsoil. The topsoil would be seeded with “Ephraim” crested wheatgrass (Agropyron cristatum) and Sodar streambank wheatgrass (Agropyron riparium) at a rate of eight pounds each pure live seed (PLS) per acre if applied by drill seeding, and 16 pounds each PLS per acre if applied by broadcast seeding. These two perennial cultivars were selected because they are drought-tolerant, readily available, relatively low growing, and have a rhizomatous growth habit that would readily cover and stabilize topsoil. This vegetative cover would reduce fire hazards and maintenance concerns.

• Ultimate reclamation of the proposed storage tank site would be addressed in the abandonment plan to be submitted to the DOT Office of Pipeline Safety at least one year prior to abandonment.

Because soils would be disturbed, there could be impacts to upland vegetation as a result of construction and normal operation of the storage tanks. Express and Terasen have agreed to undertake the following measures to mitigate impacts to vegetation resources:

• After construction is completed, temporary workspace and other portions of the affected area where long-term disturbance is not required would be rehabilitated using the topsoil spreading and revegetation mixtures recommended above.

• Ultimate reclamation of the site would be addressed in the abandonment plan.

• Noxious weeds would be monitored and controlled.

Similarly, there could be impacts from construction and operation of the storage tanks to wildlife and fisheries. Express and Terasen have agreed to undertake the following measures to mitigate these impacts:

• Terasen would implement the surface runoff control mitigation measures recommended above to reduce the potential for surface runoff and sedimentation to reach drainages.

• Wildlife habitat would be considered in the abandonment plan.

• Terasen would prepare a detailed hydrostatic test plan before mechanical construction of the storage tanks and piping would begin.

• Terasen would obtain any necessary permits or approvals prior to hydrostatic testing.

Because the storage tanks would be constructed in the existing Casper Station Tank Farm, they would not detract from the visual impression of the site or surrounding area. However, Express and Terasen have agreed to undertake the following measures to minimize impacts to visual resources from the two storage tanks:

• Facilities would be painted similar to the paint scheme used at the existing Casper Station Tank Farm.

• As soon as practicable after construction, temporary work space that is not needed for the life of the project would be revegetated.

No Action Alternative

If no action were taken, there would be no environmental impacts from the Proposed Action or associated facilities. Any environmental impacts currently occurring at these sites would continue to occur.

Under the No Action Alternative, economic benefits to the U.S. from additional petroleum supplies via the Express Pipeline would not be realized. Economic benefits to the States of Montana and Wyoming from additional taxes, and construction and operation benefits to local power providers and communities, would not materialize.

If the Express Pipeline were not expanded, three potential scenarios would be reasonably foreseeable:

(1) Existing pipelines other than Express would expand by looping or building entirely new pipelines;

(2) Some smaller refineries could be forced to reduce throughput or close if they were unable to access specialized petroleum and maintain the quality of their petroleum via transportation on a batch pipeline system such as Express; and

(3) A refined products pipeline could be built that would serve the Rocky Mountain region thereby causing the closure of smaller refineries because of competing lower-priced refined products from larger refineries.

Under the first scenario, the market responses to the Express Pipeline's inability to deliver additional petroleum supplies could encourage other pipelines to expand their systems. While no information is available at this time about the location or time frames of any such projects, expansion of these systems could result in more extensive environmental impacts than the Proposed Action because they would require the construction of additional pipelines, while the Proposed Action would not. Specific impacts from these other projects would be speculative, but would have to be identified and analyzed during the regulatory process for these other projects.

Under the second scenario, one or more Rocky Mountain refineries could close. These refineries are currently evaluating their ability to comply with new environmental requirements. To comply they must either invest in facility upgrades or obtain a source of higher quality petroleum that enables them to comply without major capital investment. The Proposed Action would expand access to a wide variety of high quality petroleum supply that complies with the new environmental objectives. The Express Pipeline also transports petroleum on a batched basis, which meets the smaller refiners' need for specialized petroleum. It is possible that one or more of these refineries could close under the No Action alternative.

Under the third scenario, an entirely new refined product pipeline could be constructed from Canada to the United States. The construction of an entirely new pipeline would likely result in more extensive environmental impacts than the installation of additional pump stations on the existing Express Pipeline. The specific impacts would be speculative and would have to be identified and evaluated during the regulatory process for these other projects.

Cummulative Effects

Cumulative effects are the impacts on the environment that result from an incremental impact of the Proposed Action when added to other past, present and reasonably foreseeable actions. Examples of such actions would include the past construction and operation of the Express Pipeline; other pipelines proposed for construction near the Express Pipeline; upgrades of existing highways in the vicinity of the proposed pump stations; and construction or upgrades of transmission lines in the vicinity of the proposed pump stations.

The Express Pipeline was constructed in 1996 and has been in operation since 1997. The Express Pipeline has provided positive economic benefits to local communities, local power providers, the States of Montana and Wyoming through ad valorem taxes, and improved petroleum supply to Montana refiners. Environmental impacts from construction of the pipeline have been largely mitigated, and there have been no major operational problems with the pipeline.

No other petroleum pipelines are known to be proposed for construction in the vicinity of the Express Pipeline. No substantial upgrades (i.e., not including normal maintenance and resurface operations, which are short-term activities) are scheduled for any of the public highways in the vicinity of the proposed pump stations for the next two years. Thus there would be no conflicts with the Proposed Action in terms of use of temporary housing or short-term population increases. It is assumed that environmental impacts of any new highway construction projects would be addressed by separate analysis documents.

There are no known proposals to construct or upgrade electric transmission lines in the vicinity of the proposed pump stations, except for the transmission lines that would directly supply the proposed pump stations. It is assumed that environmental impacts of any transmission line projects would be addressed by separate analysis documents. If it assumed that the transmission lines that would supply electrical power to the proposed pump stations were constructed in the same time frame as the proposed pump stations, there could be increased short-term socioeconomic benefits to the States of Montana and Wyoming, as well as counties and local communities, but there could also be shortages of temporary housing for construction workers, depending on the number of workers employed for transmission line construction, and the season of construction.

Unavoidable Adverse Impacts

Construction of the Proposed Action would result in some short-term direct and indirect unavoidable impacts. Temporary impacts to wildlife and visual resources during construction could not be avoided. Soil and vegetation would be removed, and agricultural productivity would be lost, on a maximum of 1.24 acres at each proposed pump station over the life of the project, but restored per the mitigation measures described here-in. All such impacts would be mitigated as described above.

Conclusion

On the basis of the Final Environmental Assessment submitted by the sponsor, the Department's independent review of that assessment, information developed during the review of the application and Environmental Assessment, comments received by the Department from Federal and State agencies, and measures that Express and Terasen are prepared to undertake to prevent or mitigate potentially adverse environmental impacts, the Department has concluded that issuance of a Presidential Permit authorizing construction and operation of the proposed Express Pipeline capacity increase would not have a significant impact on the quality of the human environment within the United States. Accordingly, a Finding of No Significant Impact is adopted and an Environmental Impact Statement will not be prepared.

The Final Environmental Assessment addressing this action is incorporated by reference and is on file and may be reviewed by interested parties at the Department of State, 2201 C Street NW., Room 3535, Washington, DC 20520 (Attn: Mr. Pedro Erviti, Tel. 202-647-1291).

Dated: September 24, 2004.
Stephen J. Gallogly,
Director, Office of Energy & Commodity Policy, Bureau of Economic and Business Affairs, Department of State.

[FR Doc. 04-22241 Filed 10-1-04; 8:45 am]

BILLING CODE 4710-07-P